DEPARTMENT OF COMMERCE

National Oceanic and Atmospheric Administration

RIN 0648-XB155

Endangered Species; File No. 17095-01

AGENCY: National Marine Fisheries Service (NMFS), National Oceanic and Atmospheric Administration (NOAA), Commerce.

ACTION: Notice; receipt of application for a permit modification.

SUMMARY: Notice is hereby given that Entergy Nuclear Operations Inc., 450 Broadway, Suite 3, Buchanan, NY 10511, has requested a modification to scientific research Permit No. 17095 authorizing scientific research on endangered shortnose sturgeon (Acipenser brevirostrum) and Atlantic sturgeon (Acipenser oxyrinchus oxyrinchus).

DATES: Written, telefaxed, or email comments must be received on or before February 28, 2013.

ADDRESSES: The modification request and related documents are available for review by selecting “Records Open for Public Comment” from the Features box on the Applications and Permits for Protected Species (APPS) home page, https://apps.nmfs.noaa.gov/, and then selecting File No. 17095-01 from the list of available applications. These documents are also available upon written request or by appointment in the following offices:

Permits and Conservation Division, Office of Protected Resources, NMFS, 1315 East-West Highway, Room 13705, Silver Spring, MD 20910; phone (301)427-8401; fax (301)713-0376; and

Northeast Region, NMFS, 55 Great Republic Drive, Gloucester, MA 01930; phone (978)281-9328; fax (978)281-9394.

Written comments on this application should be submitted to the Chief, Permits and Conservation Division, at the address listed above. Comments may also be submitted by facsimile to (301) 713-0376, or by email to NMFS.Pr1Comments@noaa.gov. Please include the File No. 17095-01 in the subject line of the email comment.

Those individuals requesting a public hearing should submit a written request to the Chief, Permits and Conservation Division at the address listed above. The request should set forth the specific reasons why a hearing on the application(s) would be appropriate.

FOR FURTHER INFORMATION CONTACT: Malcolm Mohead or Colette Cairns, (301) 427-8401.

SUPPLEMENTARY INFORMATION: The subject modification to Permit No. 17095, issued on April 11, 2012 (77 FR 21750), is requested under the authority of the Endangered Species Act of 1973, as amended (16 U.S.C. 1531 et seq.) and the regulations governing the taking, importing, and exporting of endangered and threatened species (50 CFR parts 222-226).

Permit No. 17095 currently authorizes the Permit Holder to: Monitor shortnose and Atlantic sturgeon abundance and distribution through the Hudson River Biological Monitoring Program (HRBMP) in the Hudson River from River Mile 0 (Battery Park, Manhattan, NY) to River Mile 152 at Troy Dam (Albany, NY). Researchers are authorized to non-lethally capture, handle, measure, weigh, scan for tags, insert passive integrated transponder and dart tags, photograph, tissue sample, and release up to 82 shortnose sturgeon and 82 Atlantic sturgeon annually. Additionally, researchers are permitted to lethally collect up to 40 shortnose sturgeon and up to 40 Atlantic sturgeon eggs and/or larvae (ELS) annually.

To account for a higher than expected catch per tow sampling performed authorized under Permit No. 17095, the Permit Holder now wishes to increase the takes authorized for of juvenile, sub-adult and adult Atlantic sturgeon to 200 fish per year. Take would not exceed a total of 600 Atlantic sturgeon captured over the permit life. The Permit Holder also requests that the sampling activities for juvenile, sub-adult and adult shortnose sturgeon and Atlantic sturgeon be expanded to include upper New York Harbor (~River Mile -2.0). The amount of lethal collection of Atlantic and shortnose sturgeon ELS would remain the same. The modification would be valid until the permit expires August 28, 2017.

Dated: January 23, 2013.
P. Michael Payne,
Chief, Permits and Conservation Division, Office of Protected Resources, National Marine Fisheries Service.

[FR Doc. 2013-01852 Filed 1-28-13; 8:45 am]

BILLING CODE 3510-22-P